DEPARTMENT OF LABOR

EMPLOYMENT AND TRAINING ADMINISTRATION

[TA-W-52,564 and TA-W-52,564H]

Prewett Mills Distribution Center, a Division of Prewett Hosiery Sales Corporation, Fort Payne, AL; Including an Employee of Prewett Mills Distribution Center, Fort Payne, AL, Located in Brielle, NJ; Amended Notice of Certification Regarding Eligibility To Apply for Worker Adjustment Assistance and Alternative Trade Adjustment Assistance

In accordance with Section 223 of the Trade Act of 1974 (19 USC 2273) the Department of Labor issued a Notice of Certification Regarding Eligibility to Apply for Worker Adjustment Assistance and Alternative Trade Adjustment Assistance on October 14, 2003, applicable to workers of Prewett Mills Distribution Center, a division of Prewett Hosiery Sales Corporation, Fort Payne, Alabama. The notice was published in the Federal Register on November 6, 2003 (68 FR 62833).

At the request of the State agency, the Department reviewed the certification for workers of the subject firm. New information shows that a worker separation occurred involving an employee of the Fort Payne, Alabama facility of Prewett Mills Distribution Center who was located in Brielle, New Jersey. Mr. Brian T. Reilly provided sales support services for the production of cotton socks at the Fort Payne, Alabama location of the subject firm.

Based on these findings, the Department is amending this certification to include employees of the Fort Payne, Alabama facility of Prewett Mills Distribution Center, located in Brielle, New Jersey. Since workers of the Fort Payne, Alabama location of the subject firm were certified eligible to apply for alternative trade adjustment assistance, the Department is extending this eligibility to Mr. Brian Reilly in Brielle, New Jersey.

The intent of the Department's certification is to include all workers of Prewett Mills Distribution Center, Fort Payne, Alabama, who were adversely affected by increased imports.

The amended notice applicable to TA-W-52,564 is hereby issued as follows:

All workers of Prewett Mills Distribution Center, a division of Prewett Hosiery Sales Corporation, Fort Payne, Alabama (TA-W-52,564), including an employee located in Brielle, New Jersey (TA-W-52,564H), who became totally or partially separated from employment on or after August 12, 2002, through October 14, 2005, are eligible to apply for adjustment assistance under Section 223 of the Trade Act of 1974, and are also eligible to apply for alternative trade adjustment assistance under Section 246 of the Trade Act of 1974.

Signed at Washington, DC, this 7th day of March 2005.
Richard Church,
Certifying Officer, Division of Trade Adjustment Assistance.

[FR Doc. E5-1105 Filed 3-14-05; 8:45 am]

BILLING CODE 4510-30-P